DEPARTMENT OF COMMERCE

International Trade Administration

[A-570-849]

Certain Cut-to-Length Carbon Steel Plate From the People's Republic of China: Preliminary Results of Antidumping Administrative Review, Preliminary Determination of No Shipments, in Part, and Partial Rescission; 2014-2015

AGENCY: Enforcement and Compliance, International Trade Administration, Department of Commerce.

DATES: Effective August 12, 2016.

SUMMARY: The Department of Commerce (“Department”) is conducting an administrative review of the antidumping duty order on certain cut-to-length carbon steel plate (“CTL plate”) from the People's Republic of China (“PRC”) covering the period of review (“POR”) November 1, 2014, through October 31, 2015. We preliminarily find that of the two companies under review, one made no shipments of subject merchandise during the POR and the other company has not demonstrated its eligibility for separate rate status, and, thus, is part of the PRC-wide entity. Interested parties are invited to comment on these preliminary results.

FOR FURTHER INFORMATION CONTACT: Jonathan Hill, AD/CVD Operations, Office IV, Enforcement & Compliance, International Trade Administration, U.S. Department of Commerce, 14th Street and Constitution Avenue NW., Washington, DC 20230; telephone: (202) 482-3518.

SUPPLEMENTARY INFORMATION:

Background

After initiating this review,¹ the Department issued an antidumping duty questionnaire to Hunan Valin Xiangtan Iron and Steel Co., Ltd. (“Hunan Valin”), which notified the Department that it would not respond to the questionnaire. The other respondent, Wuyang Iron & Steel Co., Ltd. (“Wuyang Steel”) reported that it made no exports, sales, or entries during the POR. All review requests were timely withdrawn for the other 14 companies for which this review was initiated. For a complete description of the events that followed the initiation of this administrative review, see the Preliminary Decision Memorandum hereby adopted by, this notice.²

¹ See Initiation of Antidumping and Countervailing Duty Administrative Reviews, 81 FR 739 (January 7, 2016) (“Initiation Notice”).

² See the memorandum from Christian Marsh, Deputy Assistant Secretary for Antidumping and Countervailing Duty Operations to Ronald K. Lorentzen, Acting Assistant Secretary for Enforcement and Compliance “Decision Memorandum for the Preliminary Results of the Antidumping Duty Administrative Review of Certain Cut-to-Length Carbon Steel Plate from the People's Republic of China,” dated concurrently with this notice (“Preliminary Decision Memorandum”).

The Preliminary Decision Memorandum is a public document and is on file electronically via Enforcement and Compliance's Antidumping and Countervailing Duty Centralized Electronic Service System (“ACCESS”). ACCESS is available to registered users at http://access.trade.gov and in the Central Records Unit, room B8024 of the main Department of Commerce building. In addition, a complete version of the Preliminary Results Decision Memorandum can be accessed directly on the Internet at http://enforcement.trade.gov/frn/index.html. The signed and the electronic versions of the Preliminary Decision Memorandum are identical in content.

The Department has exercised its discretion to toll all administrative deadlines due to the closure of the Federal Government because of Snowstorm “Jonas”. Thus, all of the deadlines in this segment of the proceeding have been extended by four business days. The revised deadline for the preliminary results of review is now August 5, 2016.³

³ See Memorandum to the Record from Ron Lorentzen, Acting Assistant Secretary for Enforcement & Compliance, regarding “Tolling of Administrative Deadlines as a Result of the Government Closure during Snowstorm Jonas,” dated January 27, 2016.

Scope of the Order

The product covered by the order is certain cut-to-length carbon steel plate from the PRC.⁴ This merchandise is currently classified in the Harmonized Tariff Schedule of the United States (“HTSUS”) under item numbers 7208.40.3030, 7208.40.3060, 7208.51.0030, 7208.51.0045, 7208.51.0060, 7208.52.0000, 7208.53.0000, 7208.90.0000, 7210.70.3000, 7212.40.5000, and 7212.50.0000. Although the HTSUS subheadings are provided for convenience and customs purposes, the written description of the scope of the order is dispositive.

⁴ For a complete description of the scope of the order see Preliminary Decision Memorandum.

Partial Rescission

Pursuant to 19 CFR 351.213(d)(1), the Department will rescind an administrative review, in whole or in part, if a party that requested the review withdraws its request within 90 days of the date of publication of the notice of initiation of the requested review. Nucor Corporation (“Petitioner”), the only party to request a review of the companies listed below, withdrew its request for an administrative review of these 14 companies within 90 days of the date of publication of Initiation Notice.⁵ Accordingly, the Department is rescinding this review, in part, with respect to the following companies, in accordance with 19 CFR 351.213(d)(1): ⁶

⁵ See Letter from Petitioner to the Secretary of Commerce “Certain Cut-To-Length Carbon Steel Plate from the People's Republic of China: Withdrawal of Request for Administrative Review,” dated April 6, 2016.

⁶ As stated in Change in Practice in NME Reviews, the Department will no longer consider the non-market economy (“NME”) entity as an exporter conditionally subject to administrative reviews. See Antidumping Proceedings: Announcement of Change in Department Practice for Respondent Selection in Antidumping Duty Proceedings and Conditional Review of the Nonmarket Economy Entity in NME Antidumping Duty Proceedings, 78 FR 65963 (November 4, 2013) (“Change in Practice in NME Reviews”). The PRC-wide entity is not subject to this administrative review because no interested party requested a review of the entity. See Initiation Notice.

Fujitrans Corporation

Guangzhou Metals and Minerals Imp. & Exp. Ltd.

Guardian Shanghai

Hong Kong Shengyu Trading Co. Ltd.

Hong Kong Zhong Yuan Industrial Co., Ltd.

Jiangyin Xingcheng Plastic Chemical Co., Ltd.

Jiangyin Xingcheng Special Steel Works Co., Ltd.

Ningbo Jiangdong Trusty Import and Export Co., Ltd.

Shanghai Ruyi Import and Export Co., Ltd.

Shanxi Taigang Stainless Steel Co., Ltd.

Shenzhen Wins Technology Co., Ltd.

UBI Logistics China Limited

Wuxi Philloy Machinery Co., Ltd.

Xiamen C&D Paper & Pulp Co., Ltd.

Methodology

The Department is conducting this review in accordance with section 751(a)(1)(B) of the Tariff Act of 1930, as amended (“the Act”). For a full discussion of the decisions taken in these preliminary results, see the Preliminary Decision Memorandum.

Preliminary Results of Review

As noted above, Hunan Valin did not respond to the Department's antidumping duty questionnaire. Therefore, the Department preliminarily determines that Hunan Valin has not demonstrated its eligibility for separate rate status and is part of the PRC-wide entity.⁷ The PRC-wide entity rate is 128.59 percent.⁸

⁷ See Preliminary Decision Memorandum.

⁸ See Final Determination of Sales at Less Than Fair Value: Certain Cut-to-Length Carbon Steel Plate From the People's Republic of China, 62 FR 61964 (November 20, 1997). Because no party requested a review of the PRC-wide entity in this segment of the proceeding, the entity's rate is not subject to change. See Change in Practice in NME Reviews.

Preliminary Determination of No Shipments

Wuyang Steel submitted a timely-filed certification that it had no exports, sales, or entries of subject merchandise during the POR.⁹ A query of U.S. Customs and Border Protection (“CBP”) data did not show any POR entries of subject merchandise from Wuyang Steel.¹⁰ In addition, CBP did not identify any entries of subject merchandise from Wuyang Steel during the POR in response to an inquiry from the Department asking CBP for such information.¹¹ Based on the foregoing, the Department preliminarily determines that Wuyang Steel did not have any reviewable transactions during the POR. For additional information regarding this determination, see the Preliminary Decision Memorandum.

⁹ See Letter from Wuyang Steel to the Secretary of Commerce “Administrative Review of Certain Cut-to-Length Carbon Steel Plate from China: Wuyang Iron & Steel's No Shipment Certification,” dated January 15, 2016.

¹⁰ See letter from Howard Smith, Program Manager, AD/CVD Operations, Office IV, Enforcement & Compliance to interested parties dated January 21, 2016.

¹¹ See CBP Message Number 6155301 dated June 3, 2016.

Consistent with its practice in NME cases, the Department is not rescinding this administrative review for Wuyang Steel, but intends to complete the review and issue appropriate instructions to CBP based on the final results of the review.

Public Comment

Interested parties are invited to comment on the preliminary results and may submit case briefs and/or written comments, filed electronically using ACCESS, within 30 days of the date of publication of this notice, pursuant to 19 CFR 351.309(c)(1)(ii). Rebuttal briefs, limited to issues raised in the case briefs, will be due five days after the due date for case briefs, pursuant to 19 CFR 351.309(d). Parties who submit case or rebuttal briefs in this review are requested to submit with each argument a statement of the issue, a summary of the argument not to exceed five pages, and a table of statutes, regulations, and cases cited, in accordance with 19 CFR 351.309(c)(2).

Pursuant to 19 CFR 351.310(c), interested parties, who wish to request a hearing must submit a written request to the Assistant Secretary for Enforcement and Compliance, U.S. Department of Commerce, filed electronically using ACCESS. Electronically filed case briefs/written comments and hearing requests must be received successfully in their entirety by the Department's electronic records system, ACCESS, by 5:00 p.m. Eastern Time, within 30 days after the date of publication of this notice.¹² Hearing requests should contain: (1) The party's name, address and telephone number; (2) the number of participants; and (3) a list of issues to be discussed. Issues raised in the hearing will be limited to those issues raised in the respective case briefs. If a request for a hearing is made, parties will be notified of the time and date of the hearing which will be held at the U.S. Department of Commerce, 1401 Constitution Avenue NW., Washington DC 20230.

¹² See 19 CFR 351.310(c).

Unless extended, the Department intends to issue the final results of this administrative review, including the results of its analysis of the issues raised in any written briefs, not later than 120 days after the date of publication of this notice, pursuant to section 751(a)(3)(A) of the Act.

Assessment Rates

Upon issuance of the final results of this review, the Department will determine, and CBP shall assess, antidumping duties on all appropriate entries covered by this review.¹³ The Department intends to issue assessment instructions to CBP 15 days after the publication date of the final results of this review. The Department intends to instruct CBP to liquidate any entries of subject merchandise from Hunan Valin at 128.59 percent (the PRC-wide rate). Additionally, pursuant to the Department's practice in NME cases, if we continue to determine that Wuyang Steel had no shipments of subject merchandise, any suspended entries of subject merchandise during the POR from Wuyang Steel will be liquidated at the PRC-wide rate.¹⁴

¹³ See 19 CFR 351.212(b)(1).

¹⁴ For a full discussion of this practice, see Non-Market Economy Antidumping Proceedings: Assessment of Antidumping Duties, 76 FR 65694 (October 24, 2011).

For companies for which the review has been rescinded, the Department will instruct CBP to assess antidumping duties on entries of subject merchandise at rates equal to the cash deposit of estimated antidumping duties required at the time of entry, or withdrawal from warehouse, for consumption, in accordance with 19 CFR 351.212(c)(l)(i).

Cash Deposit Requirements

The following cash deposit requirements will be effective upon publication of the final results of this administrative review for all shipments of the subject merchandise entered, or withdrawn from warehouse, for consumption on or after the publication date of the final results of review, as provided by section 751(a)(2)(C) of the Act: (1) For previously investigated or reviewed PRC and non-PRC exporters which are not under review in this segment of the proceeding but which have separate rates, the cash deposit rate will continue to be the exporter-specific rate published for the most recent period; (2) for all PRC exporters of subject merchandise that have not been granted a separate rate, including Hunan Valin, the cash deposit rate will be the PRC-wide rate of 128.59 percent; and (3) for all non-PRC exporters of subject merchandise which have not received their own rate, the cash deposit rate will be the rate applicable to the PRC exporter(s) that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing these results in accordance with sections 751(a)(1) and 777(i)(1) of the Act and 19 CFR 351.213(d)(4) and 351.221(b)(4).

Dated: August 5, 2016.
Ronald K. Lorentzen,
Acting Assistant Secretary for Enforcement and Compliance.

Appendix

List of Sections in the Preliminary Decision Memorandum

Summary

Background

Scope of the Order

Partial Rescission

Discussion of the Methodology

Non-Market Economy Country Status

Separate Rates

Preliminary Determination of No Shipments

Allegation of Duty Evasion

Recommendation

[FR Doc. 2016-19250 Filed 8-11-16; 8:45 am]

BILLING CODE 3510-DS-P